NATIONAL SCIENCE FOUNDATION

Notice of Intent To Seek Approval To Establish an Information Collection

AGENCY: National Science Foundation.

ACTION: Notice and Request for Comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by November 19, 2001 to be assured of consideration. Comments received after that date will be considered to the extent practicable.

FOR ADDITIONAL INFORMATION OR COMMENTS CONTACT: Suzanne H. Plimpton, Reports Clearance Officer, National Science Foundation, 4201 Wilson Boulevard, Suite 295, Arlington, Virginia 22230; telephone (703) 306-7556; or send email to splimpto@nsf.gov. Individuals who use a telecommunications device for the deaf (TDD) may call the Federal Information Relay Service (FIRS) at 1-800-877-8339 between 8 a.m. and 8 p.m., Eastern time, Monday through Friday. You also may obtain a copy of the data collection instrument and instructions from Ms. Plimpton.

SUPPLEMENTARY INFORMATION: Title of Collection: Outcomes and Impacts of The NSF Minority Postdoctoral Research Fellowships (MPRF) Program.

OMB Number: 3145-NEW.

Expiration Date of Approval: Not applicable.

Type of Request: Notice of Intent to Seek Approval to Establish an Information Collection.

Abstract: “Outcomes and Impacts of The NSF Minority Postdoctoral Research Fellowships (MPRF) Program”.

Proposed Project: The National Science Foundation (NSF), through its Minority Postdoctoral Research Fellowships (MPRF) Program within the Directorates of Biosciences and Social and Behavioral Sciences, manages a program, established in 1990 that is designed to prepare minority scientists for positions of scientific leadership in academia, government, and industry. To achieve this, funding is provided through the Program to enable new PhDs in BIO and SBE fields from under represented minority groups to have an opportunity to start their career by conducting fully funded independent research for several years. Approximately 12 fellowships are funded each year.

The purpose of the proposed study is to examine the results of the Program in the form of the awardees' career outcomes.

Use of the Information: The information will be used by NSF to understand the extent to which this program assists awardees in beginning their research careers.

Estimate of Burden: Public reporting burden for this collection of information is estimated to average 30 minutes per response.

Respondents: Individuals.

Estimated Number of Responses per Form: 157.

Estimated Total Annual Burden on Respondents: 78.5 hours—157 respondents at \1/2\ hour per response.

Frequency of Responses: One time.

Comments

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: September 13, 2001.
Suzanne H. Plimpton,
Reports Clearance Officer.

[FR Doc. 01-23282 Filed 9-18-01; 8:45 am]

BILLING CODE 7555-01-M